DEPARTMENT OF EDUCATION

Office of Special Education and Rehabilitative Services; List of Correspondence

AGENCY: Department of Education.

ACTION: List of correspondence from April 1, 2004, through June 30, 2004.

SUMMARY: The Secretary is publishing the following list pursuant to section 607(d) of the Individuals with Disabilities Education Act, as amended (IDEA). Under section 607(d) of the IDEA, the Secretary is required, on a quarterly basis, to publish in the Federal Register a list of correspondence from the Department of Education received by individuals during the previous quarter that describes the interpretations of the Department of Education (Department) of the IDEA or the regulations that implement the IDEA.

FOR FURTHER INFORMATION CONTACT: Melisande Lee or JoLeta Reynolds. Telephone: (202) 245-7459 (press 3).

If you use a telecommunications device for the deaf (TDD), you may call the Federal Information Relay Service (FIRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from April 1, 2004, through June 30, 2004.

Included on the list are those letters that contain interpretations of the requirements of the IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B—Assistance for Education of All Children With Disabilities

Section 611—Authorization; Allotment; Use of Funds; Authorization of Appropriations

Topic Addressed: Allocation of Grants

• Letter dated April 28, 2004, to Massachusetts Department of Education State Director of Special Education Marcia Mittnacht clarifying that under Part B of the IDEA, States are required to collect child count data on the number of children with disabilities receiving special education and related services on December 1 or, at the State's discretion, the last Friday in October of that school year and that this requirement cannot be waived, so the State could not collect that data on October 1.

Section 612—State Eligibility

Topic Addressed: State Eligibility

• Letter dated June 1, 2004, to Minnesota Department of Education Deputy Commissioner Chas Anderson, clarifying that under Part B of the IDEA, although a State educational agency (SEA) may not establish specific State priorities and require all public agencies within the State to spend a portion of their flow-through funds in accordance with those priorities, the SEA must ensure that public agencies comply with the Part B requirements related to qualified personnel, transition, and the provision of a free appropriate public education, and the SEA must exercise its general supervisory responsibility to ensure compliance with all Part B requirements.

Topic Addressed: State Educational Agency General Supervisory Authority

• Letter dated May 26, 2004, to New Jersey Department of Education Commissioner William J. Librera, clarifying that the SEA is ultimately responsible for ensuring that all Part B requirements, including eligibility, evaluation, and procedural safeguards, are met for eligible children residing within the State, including those children served by a public agency other than a local educational agency.

Topic Addressed: Maintenance of Effort

• Letter dated May 27, 2004, to California Bureau of State Audits Deputy State Auditor Sylvia Hensley, regarding the use of single audits under the Single Audit Act Amendments of 1996 to review a State's compliance with the State-level maintenance of effort and non-supplanting requirements of Part B of the IDEA.

Section 614—Evaluations, Eligibility Determinations, Individualized Education Programs, and Educational Placements

Topic Addressed: Educational Placements

• Letter dated May 26, 2004, to Education Law Center Staff Attorney Shari A. Mamas, clarifying that neither the statute nor the regulations implementing the IDEA provide a general entitlement for parents of children with disabilities, or their professional representatives, to observe their children in any current or proposed educational placement and that the determination of who has access to classrooms may be addressed by State and/or local policy.

Part C—Infants and Toddlers With Disabilities

Section 632—Definitions

Topic Addressed: Early Intervention Services

• Letter dated April 28, 2004, to Illinois Department of Human Services Bureau of Early Intervention Chief Janet D. Gully, explaining regulations and other issues that should be taken into consideration when determining whether services provided after medical or surgical procedures are early intervention services that should be provided under Part C.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.gpoaccess.gov/nara/index.html.

(Catalog of Federal Domestic Assistance Number 84.027, Assistance to States for Education of Children with Disabilities)
Dated: August 31, 2004.
Troy R. Justesen,
Acting Deputy Assistant Secretary for Special Education and Rehabilitative Services.

[FR Doc. E4-2075 Filed 9-3-04; 8:45 am]

BILLING CODE 4000-01-P